DEPARTMENT OF ENERGY

Office of Science; Notice of Renewal of the Biological and Environmental Research Advisory Committee

Pursuant to Section 14(a)(2)(A) of the Federal Advisory Committee Act, App., and section 102-3.65, Title 41, Code of Federal Regulations, and following consultation with the Committee Management Secretariat, General Services Administration, notice is hereby given that the Biological and Environmental Research Advisory Committee has been renewed for a two-year period.

The Committee will provide advice to the Department of Energy's Office of Science on the biological and environmental research programs. The Secretary of Energy has determined that renewal of the Biological and Environmental Research Advisory Committee is essential to the conduct of the Department's business and in the public interest in connection with the performance of duties imposed by law upon the Department of Energy. The Committee will continue to operate in accordance with the provisions of the Federal Advisory Committee Act (Pub. L. 92-463), the General Services Administration Final Rule on Federal Advisory Committee Management, and other directives and instructions issued in implementation of those acts.

FOR FURTHER INFORMATION CONTACT: Ms. Rachel Samuel at (202) 586-3279.

Issued in Washington, DC on December 14, 2009.
Carol A. Matthews,
Acting Committee Management Officer.

[FR Doc. E9-30161 Filed 12-17-09; 8:45 am]

BILLING CODE 6450-01-P